NUCLEAR REGULATORY COMMISSION

Receipt of Request for Action Under 10 CFR 2.206

Notice is hereby given that by petition dated January 25, 2006, as supplemented by the letter dated February 2, 2006, David Lochbaum, acting on behalf of the Union of Concerned Scientists and numerous other organizations and individuals, has requested that the Nuclear Regulatory Commission (NRC) take action with regard to nuclear power reactors and research and test reactors licensed by the NRC that are either operating or undergoing decommissioning. The petitioners request that the NRC issue a Demand for Information (DFI) to each licensee for the subject facilities that would require them to provide information related to systems, programs, and monitoring activities related to the potential release of water contaminated with radioactive materials.

As the basis for this request, the petitioners describe several cases of contamination at nuclear facilities and the uncontrolled release of radioactively contaminated water from NRC-licensed facilities. The petitioners' cite NRC regulations requiring licensees to have controls to limit the release of radioactive materials and to limit the radiation dose individuals receive from the operation of NRC-licensed facilities. The petitioners request the issuance of a DFI to the subject licensees to verify compliance with NRC regulations and to support assessments of the potential public health threat from such releases of radioactively contaminated water.

The request is being treated pursuant to § 2.206 of Title 10 of the Code of Federal Regulations (10 CFR 2.206). The request has been referred to the Director of the Office of Nuclear Reactor Regulation. As provided by 10 CFR 2.206, appropriate action will be taken on this petition within a reasonable time.

A copy of the petition and the supplemental letter are available in the NRC's Agencywide Documents Access and Management System (ADAMS) for inspection under Accession Nos. ML060330228 and ML060400179 at the Commission's Public Document Room (PDR), located at One White Flint North, Public File Area O1 F21, 11555 Rockville Pike (first floor), Rockville, Maryland. Publicly available records will be accessible from the ADAMS Public Electronic Reading Room on the NRC Web site (http://www.nrc.gov/reading-rm/adams.html). Persons who do not have access to ADAMS or who encounter problems in accessing the documents located in ADAMS, should contact the NRC PDR Reference staff by telephone at 1-800-397-4209, 301-415-4737, or by e-mail to pdr@nrc.gov.

Dated at Rockville, Maryland, this 1st day of March 2006.
For the Nuclear Regulatory Commission.
Christopher I. Grimes,
Director, Division of Policy and Rulemaking, Office of Nuclear Reactor Regulation.

[FR Doc. E6-3293 Filed 3-7-06; 8:45 am]

BILLING CODE 7590-01-P